DEPARTMENT OF AGRICULTURE

Economic Research Service

Notice of Intent To Request Revision and Extension of a Currently Approved Information Collection

AGENCY: Economic Research Service, USDA.

ACTION: Notice and request for comments.

SUMMARY: In accordance with the Paperwork Reduction Act of 1995 and Office of Management and Budget (OMB) implementing regulations, this notice announces the Economic Research Service's (ERS) intention to request renewal of approval for an annual information collection on supplemental food security questions in the Current Population Survey (CPS), commencing with the December 2009 survey. These data will be used: to monitor household-level food security and food insecurity in the United States; to assess food security and changes in food security for population subgroups; to assess the need for, and performance of, domestic food assistance programs; to improve the measurement of food security; and to provide information to aid in public policy decisionmaking.

DATES: Comments on this notice must be received by June 11, 2009. to be assured of consideration.

ADDRESSES: Address all comments concerning this notice to Mark Nord, Food Assistance Branch, Food Economics Division, Economic Research Service, U.S. Department of Agriculture, 1800 M Street, NW., Room N-2180, Washington, DC 20036-5831. Submit electronic comments to marknord@ers.usda.gov.

FOR FURTHER INFORMATION CONTACT: For further information, contact Mark Nord at the address in the preamble. Tel. 202-694-5433.

SUPPLEMENTARY INFORMATION:

Title: Application for an Annual Food Security Supplement to the Current Population Survey, Beginning in December 2009.

Type of Request: Approval to collect information on household food insecurity.

OMB Number: 0536-0043.

Expiration Date: September 30, 2009.

Duration of Proposed Extension: 36 months, to September 30, 2012.

Abstract: In accordance with the Paperwork Reduction Act of 1995 (Pub. L. 104-13) and OMB regulations at 5 CFR Part 1320 (60 FR 44978, August 29, 1995), this notice announces the ERS intention to request renewal of approval for an annual information collection. The U.S. Census Bureau will supplement the December CPS, beginning in 2009, with questions regarding household food shopping, use of food and nutrition assistance programs, food sufficiency, and difficulties in meeting household food needs. A similar supplement has been appended to the CPS annually since 1995. The last collection was in December 2008.

Copies of this information collection can be obtained from Mark Nord at the address in the preamble.

ERS is responsible for conducting studies and evaluations of the Nation's food and nutrition assistance programs that are administered by the Food and Nutrition Service (FNS), U.S. Department of Agriculture. The Department currently spends about $60 billion each year to ensure access to nutritious, healthful diets for all Americans. The Food and Nutrition Service administers the 15 food assistance programs of the USDA including the Supplemental Nutrition Assistance Program (SNAP), formerly called the Food Stamp Program, the National School Lunch Program, and the Special Supplemental Nutrition Program for Women, Infants, and Children (WIC). These programs, which serve 1 in 5 Americans, represent our Nation's commitment to the principle that no one in our country should lack the food needed for an active, healthy life. They provide a safety net to people in need. The programs' goals are to provide needy persons with access to a more nutritious diet, to improve the eating habits of the Nation's children, and to help America's farmers by providing an outlet for the distribution of food purchased under farmer assistance authorities.

The data collected by the food security supplement will be used to monitor the prevalence of food security and the prevalence and severity of food insecurity among the Nation's households. The prevalence of these conditions as well as year-to-year trends in their prevalence will be estimated at the national level and for population subgroups. The data will also be used to monitor the amounts that households spend for food and their use of community food pantries and emergency kitchens. These statistics along with research based on the data will be used to identify the causes and consequences of food insecurity, and to assess the need for, and performance of, domestic food assistance programs. The data will also be used to improve the measurement of food security and to develop measures of additional aspects and dimensions of food security. This consistent measurement of the extent and severity of food insecurity will aid in policy decision-making.

The supplemental survey instrument was developed in conjunction with food security experts nationwide as well as survey method experts within the Census Bureau and was reviewed in 2006 by the Committee on National Statistics of the National Research Council. This supplemental information will be collected by both personal visit and telephone interviews in conjunction with the regular monthly CPS interviewing. All interviews, whether by personal visit or by telephone, are conducted using computers.

Estimate of Burden: Public reporting burden for this data collection is estimated to average 7.6 minutes for each household that responds to the labor force portion of the CPS. The estimate is based on timing of questions in a pilot survey conducted during development of the questionnaire and an analysis of the number of households that were asked each series of questions in recent survey years.

Respondents: Individuals or households.

Estimated Number of Respondents: 54,400.

Estimated Total Annual Burden on Respondents: 6,915 hours.

Comments: Comments are invited on: (a) Whether the proposed collection of information is necessary for the proper performance of the functions of the Agency, including whether the information will have practical utility; (b) the accuracy of the Agency's estimate of the burden of the proposed collection of information, including the validity of the methodology and assumptions used; (c) ways to enhance the quality, utility, and clarity of the information to be collected; (d) ways to minimize the burden of the collection of information on those who are to respond, including through the use of appropriate automated, electronic, mechanical, or other technological collection techniques or other forms of information technology. Comments should be sent to the address in the preamble. All responses to this notice will be summarized and included in the request for OMB approval. All comments will also become a matter of public record.

Dated: March 20, 2009.
John R. Kort,
Acting Administrator, Economic Research Service.

[FR Doc. E9-7715 Filed 4-6-09; 8:45 am]

BILLING CODE 3410-18-P